DEPARTMENT OF HEALTH AND HUMAN SERVICES

Centers for Disease Control and Prevention

[60-Day-23-0314; Docket No. CDC-2023-0024]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled The National Survey of Family Growth (NSFG). This survey is designed to provide nationally representative, scientifically credible data on factors related to birth and pregnancy rates, family formation and dissolution patterns, and reproductive health.

DATES: CDC must receive written comments on or before June 6, 2023.

ADDRESSES: You may submit comments, identified by Docket No. CDC-2023-0024 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: ombcdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The National Survey of Family Growth (NSFG) (OMB Control No. 0920-0314, Exp. 12/31/2024)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “family formation, growth, and dissolution,” as well as “determinants of health” and “utilization of health care” in the United States. This clearance request includes the data collection in 2024-2026 for the continuous National Survey of Family Growth (NSFG).

The NSFG was conducted periodically between 1973 and 2002, continuously from 2006-2010, and after a break of 15 months, continuously from 2011-2019, by the NCHS, CDC. Each year, about 13,500 households will be screened, with about 5,000 participants interviewed annually. Participation in the NSFG is completely voluntary and confidential. Interviews are expected to average 50 minutes for males and 75 minutes for females. The response rate during the 2011-2019 data collection period ranged from 64.5% to 74%, and the cumulative response rate for this eight-year fieldwork period was 67.7%.

The NSFG program produces descriptive statistics which document factors associated with birth and pregnancy rates, including contraception, infertility, marriage, cohabitation, and sexual activity, in the U.S. household population 15-49 years (15-44 prior to 2015), as well as behaviors that affect the risk of HIV and other sexually transmitted diseases (STD). The survey also disseminates statistics on the medical care associated with contraception, infertility, pregnancy, and related health conditions.

NSFG data users include the DHHS programs that fund the survey, including CDC/NCHS and 11 others within DHSS:

• Eunice Kennedy Shriver National Institute for Child Health and Human Development (NIH/NICHD)

• Office of Population Affairs (OPA)

• Children's Bureau in the Administration for Children and Families (ACF/CB)

• Office of Planning, Research, and Evaluation (ACF/CB)

• Office on Women's Health (OASH/OWH)

• CDC's Division of HIV/AIDS Prevention (CDC/NCHHSTP/DHAP)

• CDC's Division of STD Prevention (CDC/NCHHSTP/DSTDP)

• CDC's Division of Adolescent and School Health (CDC/NCHHSTP/DASH)

• CDC's Division of Reproductive Health (CDC/NCCDPHP/DRH)

• CDC's Division of Cancer Prevention and Control (CDC/NCCDPHP/DCPC)

• CDC's Division of Violence Prevention (CDC/NCIPC/DVP)

The NSFG is also used by state and local governments (primarily for benchmarking to national data); private research and action organizations focused on men's and women's health, child well-being, and marriage and the family; academic researchers in the social and public health sciences; journalists; and many others.

This submission requests approval for a revision to NSFG data collection for three years. The revision request includes the increase of the main survey incentive from $40 to $60, a small set of questionnaire revisions beginning in Year 3 (2024) data collection and to conduct several methodological studies designed to improve the efficiency and validity of NSFG data collection for the purposes described above. The total estimated annualized time burden to respondents is 6,584 hours. There is no cost to respondents other than their time.

Estimated Annualized Burden Hours
Respondents | Form name | Number of responses | Responses per respondent | Average burden per response (in hours) | Total burden hours
Household member | Screener Interview | 15,000 | 1 | 5/60 | 1,250
Household Female 15-49 years of age | Female Interview | 2,750 | 1 | 75/60 | 3,438
Household Male 15-49 years of age | Male Interview | 2,250 | 1 | 50/60 | 1,875
Household member | Screener Verification | 230 | 1 | 2/60 | 8
Household Individual 15-49 years of age | Main Verification | 150 | 1 | 5/60 | 13
Total |  |  |  |  | 6,584

Jeffrey M. Zirger,
Lead, Information Collection Review Office, Office of Scientific Integrity, Office of Science, Centers for Disease Control and Prevention.

[FR Doc. 2023-07350 Filed 4-6-23; 8:45 am]

BILLING CODE 4163-18-P